NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection:

NRC Form 136, “Security Termination Statement”,

NRC Form 237, “Request for Access Authorization”,

NRC Form 277, “Request for Visit”.

2. Current OMB approval number:

3150-0049, NRC Form 136,

3150-0050, NRC Form 237,

3150-0051, NRC Form 277.

3. How often the collection is required: On occasion.

4. Who is required or asked to report: NRC Form 136, any employee of 68 licensees and 7 contractors, who have been granted an NRC access authorization; NRC Form 237, any employee of approximately 68 licensees and 7 contractors who will require access authorization. NRC Form 277, any employee of 2 current NRC contractors who holds an NRC access authorization, and needs to make a visit to NRC, other contractors/licensees or government agencies in which access to classified information will be involved or unescorted area access is desired.

5. The number of annual respondents:

NRC Form 136: 75.

NRC Form 237: 75.

NRC Form 277: 2.

6. The number of hours needed annually to complete the requirement or request:

NRC Form 136: 23.

NRC Form 237: 84.

NRC Form 277: 1.

7. Abstract: The NRC Form 136 affects the employees of licensees and contractors who have been granted an NRC access authorization. When access authorization is no longer needed, the completion of the form apprizes the respondents of their continuing security responsibilities. The NRC Form 237 is completed by licensees, NRC contractors or individuals who require an NRC access authorization. The NRC Form 277 affects the employees of contractors who have been granted an NRC access authorization and require verification of that access authorization and need-to-know in conjunction with a visit to NRC or another facility.

Submit, by April 9, 2007, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC worldwide Web site: http://www.nrc.gov/public-involve/doc-comment/omb/index.html. The document will be available on the NRC home page site for 60 days after the signature date of this notice.

Comments and questions about the information collection requirements may be directed to the NRC Clearance Officer, Margaret A. Janney (T-5 F52), U.S. Nuclear Regulatory Commission, Washington, DC 20555-0001, by telephone at 301-415-7245, or by Internet electronic mail to INFOCOLLECTS@NRC.GOV.

Dated at Rockville, Maryland, this 31st day of January 2007.
For the Nuclear Regulatory Commission.
Margaret A. Janney,
NRC Clearance Officer, Office of Information Services.

[FR Doc. E7-2037 Filed 2-6-07; 8:45 am]

BILLING CODE 7590-01-P